DEPARTMENT OF ENERGY

Advanced Scientific Computing Advisory Committee

AGENCY: Department of Energy, Office of Science.

ACTION: Notice of Open Teleconference Meeting.

SUMMARY: This notice announces a meeting of the Advanced Scientific Computing Advisory Committee (ASCAC). Federal Advisory Committee Act (Pub. L. 92-463, 86 Stat. 770) requires that public notice of these meetings be announced in the Federal Register.

DATES: Tuesday, October 5, 2010, 1 p.m. to 3 p.m.

ADDRESSES: Participants may call Mrs. Melea Baker at (301) 903-7486 to receive a call-in number by October 4, 2010. Public participation is welcomed, however the number of teleconference lines is limited and available on a first come first served basis.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to discuss the Exascale Subcommittee Report.

Tentative Agenda: Agenda will include discussion of the following:

Discussion of the Exascale Subcommittee Report and Vote

Public Comment

Public Participation: The teleconference meeting is open to the public. If you would like to file a written statement with the Committee, you may do so either before or after the meeting. If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule. This notice is being published less than 15 days before the date of the meeting due to programmatic issues.

Minutes: The minutes of this meeting will be available for public review and copying within 30 days at the Freedom of Information Public Reading Room; 1G-033, Forrestal Building; 1000 Independence Avenue, SW.; Washington, DC 20585; between 9 a.m. and 4 p.m., Monday through Friday, except holidays.

Issued in Washington, DC, on September 16, 2010.
Rachel Samuel,
Deputy Committee Management Officer.

[FR Doc. 2010-23656 Filed 9-21-10; 8:45 am]

BILLING CODE 6450-01-P